DEPARTMENT OF COMMERCE

National Oceanic and Atmospheric Administration

[I.D. 081000A]

Marine Mammals; File No. 684-1458

AGENCY: National Marine Fisheries Service (NMFS), National Oceanic and Atmospheric Administration (NOAA), Commerce.

ACTION: Issuance of permit amendment.

SUMMARY: Notice is hereby given that Dr. Donald B. Siniff, University of Minnesota, Department of Ecology, Evolution and Behavior, 100 Ecology Building, 1987 Upper Buford Circle, St. Paul, MN 55108, has been issued an amendment to scientific research Permit No. 684-1458.

ADDRESSES: The amendment and related documents are available for review upon written request or by appointment in the following office(s):

Permits and Documentation Division, Office of Protected Resources, NMFS, 1315 East-West Highway, Room 13705, Silver Spring, MD 20910 (301/713-2289); and

Southwest Region, NMFS, 501 West Ocean Blvd., Suite 4200, Long Beach, CA 90802 (562/980-4001).

FOR FURTHER INFORMATION CONTACT: Simona Roberts or Ruth Johnson, 301/713-2289.

SUPPLEMENTARY INFORMATION: On June 7, 2000, notice was published in the Federal Register (65 FR 36120) that an amendment of Permit No. 684-1458, issued August 7, 1998 (63 FR 43914), had been requested by the above-named individual. The requested amendment has been granted under the authority of the Marine Mammal Protection Act of 1972, as amended (16 U.S.C. 1361 et seq.) and the Regulations Governing the Taking and Importing of Marine Mammals (50 CFR part 216).

Permit No. 684-1458 authorizes the permit holder to capture, tag, sample, and lavage Weddell seals (Leptonychotes weddellii) of all age and sex classes on McMurdo Sound in the Antarctic.

The permit amendment authorizes the attachment of VHF transmitters on adult female Weddell seals, and the application of a series of instrument packages that contain: a 3MPDT logger(3-dimensional, magnetic data recorder), DSL (digital still camera), DU (ultrasonic depth sounder), PD2GT (speed, acceleration, depth, and temperature recorder) and ECG (electrocardiogram monitor) to male and female Weddell seals of all age classes. For attachment of the instrument package, the permit holder is authorized to anesthetize seals with the drug Sevoflurane. The amendment also authorizes an increase in the number of adult female Weddell seals captured (400 to 500), the number of adult male Weddell seals fitted with VHF transmitters (30 to 100) and the number of Weddell seal pups fitted with satellite-linked radio transmitters and the PD2GT and ECG instruments (20 to 50).

Dated: August 11, 2000.
Ann Terbush,
Chief, Permits and Documentation Division, Office of Protected Resources, National Marine Fisheries Service.

[FR Doc. 00-21099 Filed 8-17-00; 8:45 am]

Billing Code: 3510-22-S